DEPARTMENT OF DEFENSE

Department of the Navy

[Docket ID USN-2012-0020]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: This proposed action will be effective on December 31, 2012 unless comments are received which result in a contrary determination. Comments will be accepted on or before December 31, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on November 20, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 26, 2012.
Aaron Siegel,
Alternate OSD Federal Register Liaison Officer, Department of Defense.

N07220-1

System name:

Navy Standard Integrated Personnel System (NSIPS) (December 16, 2010, 75 FR 78688).

Changes:

* * * * *

Categories of individuals covered by the system:

Delete entry and replace with “All Navy military members and their dependents.”

Categories of records in the system:

Delete entry and replace with “Name, Social Security Number (SSN), date of birth, citizenship, race/ethnicity, personal cell phone numbers, mailing/home addresses, mother's maiden name, marital status, direct deposit, allotment and other pay related transactions, emergency contact, legal status, home telephone number, religious preference, mothers middle name, employment information, education information, DoD ID Number, gender, place of birth, personal email address, security clearance, spouse information, child information, military records, military orders and expense data, military training and qualifications, professional assignment history, military performance evaluations, military promotions, leave and pay entitlements and deductions.”

Purpose(s):

Delete entry and replace with “The purpose of this system is to provide secure worldwide personnel and pay support for Navy members and their commands. To allow authorized Navy personnel and pay specialists to collect, process, modify, transmit, and store unclassified personnel and pay data. Additionally, the system supports management of leave and pay entitlements and deductions so that this information can be provided to the Defense Finance and Accounting Service (DFAS) for payroll processing. The system also supports collection of spouse and child information to be used for updates to the military member's dependency status.”

* * * * *

Storage:

Delete entry and replace with “Paper records and electronic storage media.”

Retrievability:

Delete entry and replace with “Records are retrieved by name, Social Security Number (SSN), and/or DoD ID Number.”

* * * * *

Record source categories:

Delete entry and replace with “Official records and systems maintaining personnel information, professional qualifications, and educational institutions. These records and systems include the Navy Military Personnel Records System, Enlisted Master File Automated System, Officer Master File Automated System, Reserve Command Management System, On-Line Distribution Information System, Enlisted Advancement System, Military Order Obligation and Expenditure Management System and Education and Training Records, and from the individual.”

* * * * *

[FR Doc. 2012-28898 Filed 11-28-12; 8:45 am]

BILLING CODE 5001-06-P